DEPARTMENT OF AGRICULTURE

Food and Nutrition Service

7 CFR Parts 271, 272 and 273

[FNS-2015-0038]

RIN 0584-AE41

Supplemental Nutrition Assistance Program: Student Eligibility, Convicted Felons, Lottery and Gambling, and State Verification Provisions of the Agricultural Act of 2014; Correction

AGENCY: Food and Nutrition Service (FNS), USDA.

ACTION: Final rule; correction.

SUMMARY: This document contains technical corrections to the Paperwork Reduction Act section of final rule entitled “Supplemental Nutrition Assistance Program: Student Eligibility, Convicted Felons, Lottery and Gambling, and State Verification Provisions of the Agricultural Act of 2014,” published in the Federal Register on April 15, 2019.

DATES:

Effective date: This document is effective June 21, 2019.

Compliance date: Compliance with the final rule published on April 15, 2019 (84 FR 15083), and effective on June 14, 2019, is as noted in the specific regulatory provisions.

FOR FURTHER INFORMATION CONTACT: Sasha Gersten-Paal, Branch Chief, Certification Policy Branch, Program Development Division, Food and Nutrition Service (FNS), 3101 Park Center Drive, Room 810, Alexandria, Virginia 22302, (703) 305-2507, sasha.gersten-paal@fns.usda.gov.

SUPPLEMENTARY INFORMATION: The Food and Nutrition Service published a final rule on April 15, 2019, (84 FR 15083), that implements four sections of the Agricultural Act of 2014 affecting eligibility, benefits, and program administration requirements for the Supplemental Nutrition Assistance Program (SNAP). This document makes a technical correction to add the burden on SNAP individuals/households to report lottery or gambling winnings to State SNAP agencies to the burden details below based on a prior estimate in IC 0584-0064. It is estimated that a total of 27,500 participants, or 550 SNAP participants per State, will spend a total of 4,593 hours at a rate of .167 hours per response to report their substantial winnings to the State SNAP agency at a rate of $7.25 per hour for a total estimated cost of $33,296 for all respondents annually. FNS utilized the estimate of .167 hours to report a change based on a prior estimate in IC 0584-0064 on how long it takes a household to complete a simplified periodic report. FNS is not including the burden on SNAP individuals/households to reapply for benefits should they become eligible again. Since individuals/households applying for SNAP benefits are already required to report income and assets, the impact of this decision is negligible.

Need for Correction

As published, the text in the Paperwork Reduction Act section of the final rule does not include the burden on SNAP individuals/households to report lottery or gambling winnings to State SNAP agencies and requires a technical correction to the affected public, respondent type, number of responses, annual burden hours, and estimated cost to respondents.

Correction

In final rule FR Doc. 2019-07194, beginning on page 15083 in the issue of April 15, 2019, make the following correction, in the SUPPLEMENTARY INFORMATION section:

1. On page 15091 in the first column, revise the 13 lines of text before the heading “Description of Costs and Assumptions” to read as follows:

Affected public: State agencies, State gambling entities, gaming entities, households.

Regulation Section: 7 CFR 272.17.

Respondent Type: State agencies, gaming entities, households.

Estimated number of respondents: 27,750.

Total annual responses: First year 1,584,650; Ongoing 1,584,100.

Estimated annual burden hours: First year 560,814 hrs; Ongoing 192,814 hrs.

Estimated cost to respondents: First year $23,228,636; Ongoing $3,785,436.

2. On page 15092, add a table before the heading “E-Government Act Compliance” to read as follows:

Reg. section | Respondent type | Description of activity | Estimated number of respondents | Annual report or record filed | Total annual responses | Number of burden hours per response | Estimated total burden hours | Hourly wage rate * | Estimate cost to respondents
7 CFR 273.11(r) | SNAP Individuals/Households | Report lottery r gambling winnings to state SNAP Agency | 27,500 | 1 | 27,500 | 0.167 | 4,593 | $7.25 | $33,296
SNAP Individual/Household Subtotal Reporting | 27,500 | 1 | 27,500 |  | 4,593 |  | 33,296
7 CFR 272.17 | State SNAP Agency Managers | Establish cooperative agreements with State public agency and gaming entities ** | 50 | 5 | 250 | 320 | 80,000 | 59.35 | 4,748,000
7 CFR 272.17 | State Public Agency Gaming Entity Managers | Establish cooperative agreements with State SNAP agency ** | 50 | 1 | 50 | 320 | 16,000 | $59.35 | 949,600
7 CFR 272.17 | State SNAP IT Staff | Create a data matching system with State public agency and gaming entities ** | 50 | 1 | 50 | 4,160 | 208,000 | 53.74 | 11,177,920
272.17 and 273.11(r) | State SNAP Agency Eligibility Worker | Eligibility worker follow-up—misidentified winners | 50 | 260 | 13,000 | 0.667 | 8,671 | 21.45 | 185,993
7 CFR 272.17 and 7 CFR 273.11(r) | State SNAP Agency Eligibility Worker | Eligibility worker follow-up—true winners | 50 | 460 | 23,000 | 1 | 23,000 | 21.45 | 493,350
7 CFR 272.17 and 7 CFR 273.11(r) | State SNAP Agency Eligibility Worker | Eligibility worker work new applications (churn) | 50 | 411 | 20,550 | 1 | 20,550 | 21.45 | 440,798
7 CFR 272.17 | State Public Agency Gaming Entity Staff Member | Input data into data matching system for use by State SNAP agency | 50 | 6,000 | 300,000 | 0.08 | 24,000 | 19.56 | 469,440
7 CFR 272.17 | State SNAP IT Staff | Maintain a data matching system with State public agency and gaming entities | 50 | 1 | 50 | 320 | 16,000 | 53.74 | 859,840
State Agency Subtotal Reporting | 50 | 7,139 | 356,950 |  | 396,221 |  | 19,324,940
7 CFR 272.17 | Gaming Entity Managers | ** Establish cooperative agreements with State SNAP agency | 200 | 1 | 200 | 320 | 64,000 | 40.12 | 2,567,680
7 CFR 272.17 | Gaming Entity Staff Member | Input data into data matching system for use by State SNAP agency | 200 | 6000 | 1,200,000 | 0.08 | 96,000 | 13.57 | 1,302,720
Business Subtotal Reporting | 200 | 6,001 | 1,200,200 |  | 160,000 |  | 3,870,400
Individual, States and Business Reporting Grand Total Burden Estimates | 27,750 | 13,141 | 1,584,650 |  | 560,814 |  | 23,228,636
* Based on the Bureau of Labor Statistics May 2017 Occupational and Wage Statistics. The salaries of State SNAP agency managers and public gaming entity managers are considered to be “General and Operations Managers (11-1021).” The salaries of gaming entity managers are considered to be “Gaming Managers (11-9071).” The salaries of State SNAP IT Staff are considered to be “Software Developers, Systems Software (15-1133).” The salaries of the eligibility workers are considered to be “Eligibility Interviewers, Government Programs (43-4061).” The salaries of public gaming entity staff member are considered to be “Information and Record Clerks, All Other (43-4199).” The salaries of gaming entity staff member are considered to be “Gaming Cage Workers (43-3041).” (http://www.bls.gov/oes/home.htm).
** These are only first year costs and are next expected to re-occur annually.

Dated: June 5, 2019.
Brandon Lipps,
Administrator, Food and Nutrition Service.

[FR Doc. 2019-12910 Filed 6-20-19; 8:45 am]

BILLING CODE 3410-30-P